DEPARTMENT OF COMMERCE

International Trade Administration

[A-821-802]

Draft Amendment to the Agreement Suspending the Antidumping Investigation on Uranium From the Russian Federation; Request for Comment

AGENCY: Enforcement and Compliance, International Trade Administration, Department of Commerce.

SUMMARY: The U.S. Department of Commerce (Commerce) and State Atomic Energy Corporation Rosatom (Rosatom) have initialed a draft amendment to the Agreement Suspending the Antidumping Investigation on Uranium from the Russian Federation (Agreement). The draft amendment will allow the Russian Federation to export Russian uranium products to the United States in accordance with the export limits and other terms detailed in the amendment. Commerce is inviting interested parties, industrial users, and the public to comment on the text of the draft amendment to the Agreement.

DATES: Applicable September 11, 2020. Comments are due by 5:00 p.m. Eastern Time on September 28, 2020.

ADDRESSES: All submissions to Commerce must be filed electronically using Enforcement and Compliance's Antidumping Duty and Countervailing Duty Centralized Electronic Service System (ACCESS). ACCESS is available to registered users at https://access.trade.gov. See the SUPPLEMENTARY INFORMATION for additional details.

FOR FURTHER INFORMATION CONTACT: Sally C. Gannon or Jill Buckles, Bilateral Agreements Unit, Enforcement and Compliance, International Trade Administration, U.S. Department of Commerce, 1401 Constitution Avenue NW, Washington, DC 20230; telephone: (202) 482-0162 or (202) 482-6230, respectively.

SUPPLEMENTARY INFORMATION:

Background

On October 16, 1992, Commerce signed an agreement with the Russian Federation's Ministry for Atomic Energy (MINATOM), the predecessor to Rosatom, under section 734(l) of the Tariff Act of 1930, as amended (the Act), suspending the antidumping duty investigation on uranium from the Russian Federation.¹ There have been five amendments to the Agreement, the most recent of which was signed on February 1, 2008.² On February 22, 2019, Commerce formally opened consultations with Rosatom with respect to a possible extension of the Agreement's term.³

¹ See Antidumping; Uranium from Kazakhstan, Kyrgyzstan, Russia, Tajikistan, Ukraine, and Uzbekistan; Suspension of Investigations and Amendment of Preliminary Determinations, 57 FR 49220, 49235 (October 30, 1992).

² See Amendment to Agreement Suspending the Antidumping Investigation on Uranium from the Russian Federation, 59 FR 15373 (April 1, 1994); Amendments to the Agreement Suspending the Antidumping Investigation on Uranium from the Russian Federation, 61 FR 56665 (November 4, 1996); Amendment to Agreement Suspending the Antidumping Investigation on Uranium from the Russian Federation, 62 FR 37879 (July 15, 1997); and Amendment to the Agreement Suspending the Antidumping Investigation on Uranium from the Russian Federation, 73 FR 7705 (February 11, 2008).

³ See Letter to Rosatom from P. Lee Smith, Deputy Assistant Secretary for Policy & Negotiations, “Consultations on the Agreement Suspending the Antidumping Investigation on Uranium from the Russian Federation,” dated February 22, 2019.

Draft Amendment

On September 11, 2020, Commerce and Rosatom initialed a draft amendment to the Agreement. The draft amendment allows for exports of Russian uranium products to the United States in accordance with the export limits and other terms detailed in the amendment. In general, the draft amendment will reduce U.S. reliance on imports of uranium from Russia over the long term. Under the current Agreement, Russian uranium exports are limited to approximately 20 percent of U.S. enrichment demand. Under the draft amended Agreement, the export limits will be equivalent to 24 percent of U.S. enrichment demand in 2021, 20 percent in 2022, 24 percent in 2023, 20 percent per year from 2024 to 2027, and 15 percent per year from 2028 to 2040. (Export limits are to be calculated on the basis of the World Nuclear Association's Lower Scenario, a 4.4 percent product assay, and a 0.3 percent tails assay.) These figures correspond to an average of approximately 17 percent over the next 20 years.

The draft amendment to the Agreement also strengthens existing protections for the U.S. commercial enrichment industry, by extending and reducing the Agreement's export limits, as discussed above.

The draft amendment to the Agreement establishes protections for U.S. uranium miners and the U.S. uranium converter by limiting sales of enriched uranium product (EUP) and sales of enrichment (i.e., separative work units, or SWU) plus conversion under the export limits. Under the draft amendment, the cap on exports pursuant to EUP sales is equivalent to 15 percent of U.S. enrichment demand in 2021, 9.8 percent in 2022, 10.2 percent in 2023, 5.7 percent in 2024, 5.3 percent in 2025, and 5 percent per year from 2026 to 2040. The cap for additional exports pursuant to sales of SWU plus conversion is equivalent to 1 percent of U.S. enrichment demand in 2021, approximately 3 percent from 2022 to 2025, and zero percent from 2026 to 2040. These figures correspond to an average of 7 percent of U.S. enrichment demand for the combined EUP and SWU plus conversion limits over the 20-year period. The current Agreement contains no limits on sales of EUP or SWU plus conversion, other than the general export limits (which are equivalent to approximately 20 percent of U.S. enrichment demand, as noted above).

The draft amendment includes updated provisions with respect to natural uranium returned or provided by U.S. customers to the Russian exporter pursuant to sales of enrichment (i.e., “returned feed”). The draft amendment fixes “returned feed” provisions in the existing Agreement that are detrimental to U.S. uranium miners and the U.S. converter. Specifically, under the current Agreement, foreign-origin returned feed can be delivered to the Russian exporter, enriched in Western Europe, and then exported to the United States outside the Agreement's export limits. The draft amended Agreement would require foreign-origin returned feed that is enriched or sold in third countries to be subject to the Agreement's export limits if exported back to the United States.

The export limits and other caps in the draft amendment are generally structured to allow U.S. customers to fulfill preexisting contractual obligations to purchase Russian uranium products.

The full text of the draft amendment to the Agreement follows in the Annex to this notice with the exception of Appendix 5 which contains business proprietary information and is releasable only under the Administrative Protective Order (APO).

Comment Period

Commerce invites interested parties to comment on the text of the draft amendment to the Agreement. In addition, industrial users such as utility companies, and the public, may also comment on the text of the draft amendment. Comments are due by 5:00 p.m. Eastern Time on September 28, 2020. Commerce will consider all comments received by the due date, and will formally address all timely filed comments from interested parties for purposes of a final amendment to the Agreement.

All information provided to Commerce will be subject to release under APO and should be submitted in accordance with 19 CFR 351.103 and 19 CFR 351.105 of Commerce's regulations, including the service of copies of comments on interested parties to this proceeding. The APO and public service lists in this proceeding can be found in ACCESS. Commerce will consider all comments received by the close of the comment period.

Dated: September 11, 2020.
Jeffrey I. Kessler,
Assistant Secretary for Enforcement and Compliance.

BILLING CODE 3510-DS-C

[FR Doc. 2020-20500 Filed 9-14-20; 11:15 am]

BILLING CODE 3510-DS-C